DEPARTMENT OF HEALTH AND HUMAN SERVICES

Administration for Children and Families

Submission for OMB Review; Tribal Maternal, Infant, and Early Childhood Home Visiting Program Data Reports: Demographic and Service Utilization, Grantee Performance Measures, and Quarterly Performance Reports

AGENCY: Office of Early Childhood Development, Administration for Children and Families, Department of Health and Human Services.

ACTION: Request for public comments.

SUMMARY: The Administration for Children and Families (ACF) is requesting a new information collection for the Tribal Maternal, Infant, and Early Childhood Home Visiting (MIECHV) Tribal Home Visiting Program Data Reports: Demographic and Service Utilization, Grantee Performance Measures, and Quarterly Performance Reports.

DATES: Comments due within 30 days of publication. The Office of Management and Budget (OMB) must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review-Open for Public Comments” or by using the search function. You can also obtain copies of the proposed collection of information by emailing infocollection@acf.hhs.gov. Identify all emailed requests by the title of the information collection.

SUPPLEMENTARY INFORMATION:

Description: Section 511 of title V of the Social Security Act created the MIECHV Program and authorizes the Secretary of the United States Department of Health and Human Services (HHS) to award grants to Indian tribes (or a consortium of Indian tribes), tribal organizations, or urban Indian organizations to conduct an early childhood home visiting program. The legislation set aside 6 percent of the total MIECHV program appropriation for grants to tribal entities. Tribal MIECHV grants, to the greatest extent practicable, are to be consistent with the requirements of the MIECHV grants to states and jurisdictions and include conducting a needs assessment and establishing quantifiable, measurable benchmarks.

The ACF Office of Early Childhood Development (ECD), in collaboration with the Health Resources and Services Administration, Maternal and Child Health Bureau, awards grants for the Tribal MIECHV Program. The Tribal MIECHV grant awards support 5-year cooperative agreements to conduct community needs assessments; plan for and implement high-quality, culturally grounded, evidence-based home visiting programs in at-risk tribal communities; and participate in research and evaluation activities to build the knowledge base on home visiting among Native populations.

In Year 1 of the cooperative agreement, grantees must (1) conduct a comprehensive community needs and readiness assessment and (2) develop a plan to respond to identified needs. Following each year that Tribal MIECHV grantees implement home visiting services, they must comply with the requirement to submit demographic and service utilization data once they begin to provide services, and then on an annual basis. Grantees also begin to report quarterly on caseloads and family and staff retention and submit performance data in years 2-5 of their cooperative agreements. Tribal MIECHV Program data are used to help ACF better understand the population receiving services from Tribal MIECHV grantees, the degree to which they are using services, as well as staffing data to better understand the Tribal MIECHV workforce. This includes demographic and service utilization data on the number of newly enrolled and continuing participants, educational level and poverty status of participants, education level of staff, number of home visits and grantee caseload capacity, and retention of families and staff. Performance reporting on the six legislatively mandated areas (referred to as “benchmark areas”) will document grantee improvement in the benchmark areas over time and will allow new cohorts of grantees to reflect on their performance to make program improvements or to document implementation of services successfully that encompass the major goals of the program.

ACF will use Tribal Home Visiting Data Reports to:

• Collect demographic and service utilization that provides vital information on the families being served under the Tribal MIECHV Program;

• Collect the number of newly enrolled and continuing families being served;

• Collect the number of home visits;

• Track and improve the quality of benchmark measures data submitted by the tribal grantees;

• Improve program monitoring and oversight;

• Improve rigorous data analyses that help to assess the effectiveness of the programs and enable ACF to better monitor projects;

• Ensure adequate and timely reporting of program data to relevant federal agencies and stakeholders, including Congress and members of the public; and

• Collect data on caseload capacity and the retention and attrition of enrolled families and the retention and attrition of program staff on a quarterly basis.

Overall, this information collection will provide valuable information to HHS that will guide understanding of the Tribal MIECHV Program and the provision of technical assistance to Tribal MIECHV Program grantees.

Respondents: Tribal MIECHV Grantees.

Annual Burden Estimates
Instrument | Total number of respondents | Annual number of responses per respondent | Average burden hours per response | Annual burden hours
Tribal MIECHV Demographic and Service Utilization Data Form | 55 | 1 | 317 | 17,435
Tribal MIECHV Demographic & Service Utilization Data Report (Families) | 1,668 | 1 | .233 | 389
Tribal MIECHV Performance Measures Form | 55 | 1 | 288 | 15,840
Tribal MIECHV Quarterly Performance Report | 55 | 4 | 2.5 | 550

Estimated Total Annual Burden Hours: 33,825.

Authority: Section 511 of title V of the Social Security Act.

Mary B. Jones,
ACF/OPRE Certifying Officer.

[FR Doc. 2023-13065 Filed 6-16-23; 8:45 am]

BILLING CODE 4184-77-P